Memorandum of January 21, 2009

Pay Freeze

Memorandum for the Assistant to the President and Chief of Staff

The United States is in a period of severe economic stress. Too many Americans have lost their jobs, their homes, their health insurance, or a substantial part of their retirement savings, and many more feel uncertain about the future.

In these circumstances, Government must act forcefully and creatively to stimulate our economic recovery, investing in infrastructure, innovative energy technologies, and education. It must act quickly to provide assistance to average Americans.

Many have accepted the call to serve in Government and to assist me in restoring a sound economy and in improving the lives of average Americans. In this challenging economic period, it is only appropriate that senior officials on the White House staff forgo pay increases until further notice.

Accordingly, as a signal of our shared commitment to restoring the country's economic vitality and because of the serious economic conditions we are facing, I intend to freeze the salaries of senior members of the White House staff, to the extent permitted by law. I direct you to report back to me within 30 days with recommendations for actions to implement this freeze.

This memorandum is not intended to, and does not, create any right or benefit, substantive or procedural, enforceable at law or in equity by a party against the United States, its departments, agencies, or entities, its officers, employees, or agents, or any other person.

This memorandum shall be published in the Federal Register.

THE WHITE HOUSE,

Washington, January 21, 2009

[FR Doc. E9-1724

Filed 1-23-09; 8:45 am]

Billing code 3195-W9-P